DEPARTMENT OF THE INTERIOR

National Park Service

[NPS-NERO-GATE-17824; PPNEGATEB0, PPMVSCS1Z.Y00000]

Notice of the 2015 Meeting Schedule for Gateway National Recreation Area Fort Hancock 21st Century Advisory Committee

AGENCY: National Park Service, Interior.

ACTION: Notice of Meetings.

SUMMARY: In accordance with the Federal Advisory Committee Act (5 U.S.C. Appendix 1-16), notice is hereby given of the 2015 meeting schedule of the Gateway National Recreation Area Fort Hancock 21st Century Advisory Committee.

Agenda: The Committee will offer expertise and advice regarding the preservation of historic Army buildings at Fort Hancock and Sandy Hook Proving Ground National Historic Landmark into a viable, vibrant community with a variety of uses for visitors, not-for-profit organizations and residents. The final agenda will be posted on www.forthancock21stcentury.org prior to the meeting.

DATES: All meetings will be held on Fridays and will begin at 9:00 a.m. (Eastern). The meetings will take place on the following dates for the remainder of 2015: Friday, May 8, 2015, Friday, June 26, 2015, Friday, September 11, 2015, Friday, October 23, 2015, Friday, December 4, 2015

ADDRESSES: The meetings to be held on May 8, 2015, June 26, 2015, September 11, 2015, and October 23, 2015, will be held in the Beech Room at the Thompson Park Visitor Center, located at 805 Newman Springs Road, Lincroft, N.J. Thompson Park is part of the Monmouth County Park System. The final meeting of the year held on December 4, 2015, will take place at the Chapel at Sandy Hook, Hartshorne Drive, Middletown, N.J.

FOR FURTHER INFORMATION CONTACT: Further information concerning the meetings may be obtained by mail from John Warren, External Affairs Officer, Gateway National Recreation Area, 26 Hudson Road, Highlands, N.J. 07732, or by calling (732) 872-5908, or via email at GATE_BMD@nps.gov, or by visiting the park Web site at http://www.nps.gov/gate/home.htm.

SUPPLEMENTARY INFORMATION: As provided under section 10(a)(2) of the Federal Advisory Committee Act (5 U.S.C. Appendix 1-16), the purpose of the Committee is to provide advice to the Secretary of the Interior, through the Director of the National Park Service, on the development of a reuse plan and on matters relating to future uses of certain buildings within the Fort Hancock Historic Landmark District, within the Sandy Hook Unit of Gateway National Recreation Area. Meetings are open to the public. Interested members of the public may present, either orally or through written comments, opinions or information for the Committee to consider during the public meeting.

Attendees and those wishing to provide comment are strongly encouraged to preregister through the contact information provided. The public will be able to comment at the meetings from 11:30 a.m. to 1:45 p.m. Written comments will be accepted prior to, during, or after the meeting. Due to time constraints during the meeting, the Committee is not able to read written public comments submitted into the record. Individuals or groups requesting to make oral comments at the public committee meeting will be limited to no more than five minutes per speaker.

Before including your address, telephone number, email address, or other personal identifying information in your written comments, you should be aware that your entire comment—including your personal identifying information—may be made publicly available at any time. While you may ask us in your comment to withhold your personal identifying information from public review, we cannot guarantee that we will be able to do so. All comments will be made part of the public record and will be electronically distributed to all Committee members.

Dated: March 24, 2015.
Alma Ripps,
Chief, Office of Policy.

[FR Doc. 2015-07428 Filed 3-31-15; 8:45 am]

BILLING CODE 4310-EE-P